DEPARTMENT OF VETERANS AFFAIRS

Request for Information: To Provide Comprehensive Advice To Assist the Department of Veterans Affairs (VA) With Developing Policy Regarding Safety and Quality Standards for Providers of Modification Services Under the Automobile Adaptive Equipment (AAE) Program

AGENCY: Department of Veterans Affairs.

ACTION: Notice of request for information.

SUMMARY: The VA is requesting information to assist in implementing section 3 of the Veterans Mobility Safety Act of 2016 (H.R. 3471, hereafter referred to as “the Act”), which requires VA to develop a comprehensive policy regarding quality standards for automobile adaptive modification services provided to eligible Veterans and Servicemembers under VA's AAE program. This notice requests information and comments from interested parties to help inform VA's development of this policy, to include specific questions for comment with regard to safety and quality standards for AAE and installation, installer or provider certification by a third party organization or manufacturer, education and training of VA personnel, installer or provider compliance with the Americans with Disabilities Act of 1990, and permitting eligible Veterans and Servicemembers to receive automobile adaptive modifications at their residence or location of choice.

DATES: Comments in response to this request for information must be received by VA on or before February 17, 2017.

ADDRESSES: Written comments may be submitted through http://www.Regulations.gov; by mail or hand delivery to the Director, Regulations Management (02REG), Department of Veterans Affairs, 810 Vermont Avenue NW., Room 1068, Washington, DC 20420; or by fax to 202-273-9026. Comments should indicate that they are submitted in response to “Request for Information: To provide comprehensive advice to assist the Department of Veterans Affairs with developing policy regarding safety and quality standards for providers of modification services under the automobile adaptive equipment program.” Copies of comments received will be available for public inspection in the Office of Regulation Policy and Management, Room 1063B, between the hours of 8:00 a.m. and 4:30 p.m., Monday through Friday (except holidays). Please call (202) 461-4902 (this is not a toll-free number) for an appointment. During the comment period, comments may also be viewed online through the Federal Docket Management System at www.Regulations.gov.

FOR FURTHER INFORMATION CONTACT: Shayla Mitchell, Ph.D., MS, CRC, Rehabilitation and Prosthetic Services (10P4R), Veterans Health Administration, Department of Veterans Affairs, 810 Vermont Avenue NW., Washington, DC 20420, (202) 461-0366 or (202) 461-0389 (this is not a toll-free number).

SUPPLEMENTARY INFORMATION: Section 3 of the Act requires VA to develop a comprehensive policy regarding quality standards for automobile adaptive modification services provided to eligible Veterans and Servicemembers under VA's AAE program. In accordance with section 3(b) of the Act, the scope of this policy shall cover VA's management of its AAE program, the development of safety and quality standards for AAE and installation, provider certification by a third party organization or manufacturer, education and training of VA personnel, provider compliance with the Americans with Disabilities Act of 1990, and permitting eligible Veterans and Servicemembers to receive automobile adaptive modifications at their residence or location of choice. To comply with section 3(e) of the Act, VA must develop this policy in consultation with Veterans Service Organizations; the National Highway Transportation Administration, industry representatives; manufacturers of AAE; and other entities with expertise in installing, repairing, replacing, or manufacturing mobility equipment, or developing mobility accreditation standards for AAE. This notice and request for information serves as the means for VA to consult with these groups and entities. VA will use comments it receives to determine the best approach to developing a program that will meet the requirements in section 3(b) of the Act. VA will then draft and submit a proposed rule for public comment, and the resulting final rule and promulgated regulation will establish the policy required under section (3)(a) of the Act. Although section (3)(a) of the Act uses the term “policy,” VA contends that a regulation is required to establish the program required by section (3)(a) of the Act because of the effect this will have on VA's administration of AAE benefits. In order to publish a final rule that is effective prior to the 1-year deadline established in section 3(d)(1) of the Act, VA must expedite this consultation which will be foundational to the regulatory development process. Hence, this notice and request for information has a comment period of only 15 days in which groups and entities may reply to the questions presented in the next section below. VA believes that 15 days is sufficient to provide comments, as the groups and entities with expertise in installing, repairing, replacing, or manufacturing mobility equipment or developing mobility accreditation standards for AAE will likely have the information readily available, or can quickly compile and submit such information.

This notice is a request for information only. This does not constitute a Request for Proposal, applications, proposal abstracts, or quotations, and VA will not accept unsolicited proposals. Commenters are encouraged to provide complete but concise responses to the questions outlined below. Please note that VA will not respond to comments or other questions regarding policy plans, decisions, or issues with regard to this notice. VA may choose to contact individual commenters, and such communications would only serve to further clarify their written comments.

Request for Information

VA requests information that will assist in developing the program required by section (3)(a) of the Act. This includes information about VA's management of its AAE program, the development of safety and quality standards for AAE and installation, education and training of VA personnel, provider certification by a third party organization or manufacturer, provider compliance with the Americans with Disabilities Act of 1990, and permitting eligible Veterans and Servicemembers to receive automobile adaptive modifications at their residence or location of choice. Specifically, VA requests information related to the questions below:

1. How should VA define safety and quality standards for its AAE program?

a. Do such Federal government standards related to AAE safety and quality exist that VA can use or adopt? If so, what are those standards?

b. Do other government standards (e.g., state, local) related to AAE safety and quality exist that VA can use or adopt? If so, what are those standards?

c. Do industry standards related to AAE safety and quality (as referenced above) exist that VA can use or adopt?

i. If so, what are those standards?

ii. Have such standards been tested for validity and reliability?

iii. What test(s) of validity and reliability were used to establish those standards?

2. What criteria should VA use to monitor and assess AAE safety and quality, and how should VA enforce compliance or address non-compliance with these criteria? For example:

a. Are there industry standards or checklists that are available for quality and safety inspections? If so, please provide.

b. How do other entities (e.g., other Federal government agencies, for-profit, non-profit/not-for-profit entities, third party certifiers, other countries) monitor and enforce compliance with AAE safety and quality measures?

c. Should VA require all modifiers to comply with Federal Motor Vehicle Safety Standards, provide proof of insurance, provide 24-hour towing/emergency services, and provide warranties on all AAE items and installation?

3. How often should VA assess the safety and quality standards referenced above?

4. How should VA define and differentiate levels of modification complexity for AAE installations?

a. How does complexity level impact adherence to the safety and quality standards referenced above?

5. What type(s) of certifications, licensure (to include state licensure), etc., should VA require from AAE modifiers?

6. What role or responsibility should beneficiaries of VA's AAE program have when there is a safety or quality concern with equipment or modifications provided under VA's AAE program?

7. What type of education or training should be required for VA personnel to be able to determine compliance and consistent application of standard for safety and quality for both AAE equipment and installation?

8. Are there suggestions of safety organizations (e.g., non-profit, not-for-profit, private, international) that can assist VA in developing safety and quality standards for its AAE program? Examples of such organizations VA is aware of include: Society for Automobile Engineers, Institute of Electrical and Electronic Engineers, National Sanitation Foundation International, International Organization for Standardization, Automotive Safety Council, National Safety Council, Rehabilitation Engineering and Assistive Technology Society of North America, Department of Transportation, Consumer Product Safety Commission, Department of Health and Human Services, National Highway Traffic and Safety Administration, and National Mobility and Equipment Dealers Association.

Paperwork Reduction Act

This request for information constitutes a general solicitation of public comments as stated in the implementing regulations of the Paperwork Reduction Act of 1995 at 5 CFR 1320.3(h)(4). Therefore, this request for information does not impose information collection requirements (i.e., reporting, recordkeeping or third-party disclosure requirements). Consequently, there is no need for review by the Office of Management and Budget under the authority of the Paperwork Reduction Act of 1995 (44 U.S.C. 3501 et seq.).

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on January 27, 2017, for publication.

Dated: January 27, 2017.
Jeffrey Martin,
Office Program Manager, Office of Regulation Policy & Management, Office of the Secretary, Department of Veterans Affairs.

[FR Doc. 2017-02173 Filed 2-1-17; 8:45 am]

BILLING CODE 8320-01-P